DEPARTMENT OF ENERGY

Federal Energy Regulatory Commission

Combined Notice of Filings #1

Take notice that the Commission received the following electric corporate filings:

Docket Numbers: EC21-40-000.

Applicants: Energia Sierra Juarez U.S., LLC, Energia Sierra Juarez U.S. Transmission, LLC.

Description: Application for Authorization Under Section 203 of the Federal Power Act of Energia Sierra Juarez U.S., LLC, et. al.

Filed Date: 1/8/21.

Accession Number: 20210108-5071.

Comments Due: 5 p.m. ET 1/29/21.

Take notice that the Commission received the following electric rate filings:

Docket Numbers: ER16-1404-007.

Applicants: New York Independent System Operator, Inc.

Description: Compliance filing: NYISO compliance errata to 12/22/20 SSE under BSM rules filing to be effective 2/20/2021.

Filed Date: 1/8/21.

Accession Number: 20210108-5085.

Comments Due: 5 p.m. ET 1/29/21.

Docket Numbers: ER20-479-001; ER20-481-001; ER20-482-001; ER20-484-001; ER20-1650-002.

Applicants: Little Bear Solar 1, LLC, Little Bear Solar 3, LLC, Little Bear Solar 4, LLC, Little Bear Solar 5, LLC, Little Bear Master Tenant, LLC.

Description: Notice of Change in Status of Little Bear Solar 1, LLC, et al.

Filed Date: 1/7/21.

Accession Number: 20210107-5172.

Comments Due: 5 p.m. ET 1/28/21.

Docket Numbers: ER20-1912-002.

Applicants: Blooming Grove Wind Energy Center LLC.

Description: Notice of Change in Status of Blooming Grove Wind Energy Center LLC.

Filed Date: 1/7/21.

Accession Number: 20210107-5180.

Comments Due: 5 p.m. ET 1/28/21.

Docket Numbers: ER20-2288-001.

Applicants: Tatanka Ridge Wind, LLC.

Description: Notice of Change in Status of Tatanka Ridge Wind, LLC.

Filed Date: 1/8/21.

Accession Number: 20210108-5069.

Comments Due: 5 p.m. ET 1/29/21.

Docket Numbers: ER20-2445-001.

Applicants: Prineville Solar Energy LLC.

Description: Notice of Change in Status of Prineville Solar Energy LLC.

Filed Date: 1/7/21.

Accession Number: 20210107-5179.

Comments Due: 5 p.m. ET 1/28/21.

Docket Numbers: ER21-13-001.

Applicants: NECEC Transmission LLC.

Description: Compliance filing: Notice of Effective Date and Consummation (National Grid) to be effective N/A.

Filed Date: 1/8/21.

Accession Number: 20210108-5178.

Comments Due: 5 p.m. ET 1/29/21.

Docket Numbers: ER21-14-001.

Applicants: NECEC Transmission LLC.

Description: Compliance filing: Notice of Effective Date and Consummation (Unitil) to be effective N/A.

Filed Date: 1/8/21.

Accession Number: 20210108-5179.

Comments Due: 5 p.m. ET 1/29/21.

Docket Numbers: ER21-15-001.

Applicants: NECEC Transmission LLC.

Description: Compliance filing: Notice of Effective Date and Consummation (HQUS Eversource) to be effective N/A.

Filed Date: 1/8/21.

Accession Number: 20210108-5195.

Comments Due: 5 p.m. ET 1/29/21.

Docket Numbers: ER21-17-001.

Applicants: NECEC Transmission LLC.

Description: Compliance filing: Notice of Effective Date and Consummation (HQUS National Grid) to be effective N/A.

Filed Date: 1/8/21.

Accession Number: 20210108-5182.

Comments Due: 5 p.m. ET 1/29/21.

Docket Numbers: ER21-18-001.

Applicants: NECEC Transmission LLC.

Description: Compliance filing: Notice of Effective Date and Consummation (HQUS Unitil) to be effective N/A.

Filed Date: 1/8/21.

Accession Number: 20210108-5183.

Comments Due: 5 p.m. ET 1/29/21.

Docket Numbers: ER21-19-001.

Applicants: NECEC Transmission LLC.

Description: Compliance filing: Notice of Effective Date and Consummation (HQUS Additional) to be effective N/A.

Filed Date: 1/8/21.

Accession Number: 20210108-5184.

Comments Due: 5 p.m. ET 1/29/21.

Docket Numbers: ER21-445-000.

Applicants: Hill Top Energy Center LLC.

Description: Supplement to November 20, 2020 Market Based Rate Application of Hill Top Energy Center LLC.

Filed Date: 1/7/21.

Accession Number: 20210107-5182.

Comments Due: 5 p.m. ET 1/19/21.

Docket Numbers: ER21-681-001.

Applicants: Midcontinent Independent System Operator, Inc., American Transmission Company LLC.

Description: Tariff Amendment: 2021-01-08_SA 3592 ATC-Wood County Solar Substitute E&P (J986) to be effective 1/1/2021.

Filed Date: 1/8/21.

Accession Number: 20210108-5074.

Comments Due: 5 p.m. ET 1/29/21.

Docket Numbers: ER21-830-000.

Applicants: Weaver Wind Maine Master Tenant, LLC.

Description: § 205(d) Rate Filing: Notice of Non-Material Change in Status and Revised MBR Tariff to be effective 1/8/2021.

Filed Date: 1/7/21.

Accession Number: 20210107-5046.

Comments Due: 5 p.m. ET 1/28/21.

Docket Numbers: ER21-831-000.

Applicants: PJM Interconnection, L.L.C.

Description: § 205(d) Rate Filing: Original ISA, Service Agreement No. 5865; Queue No. AC1-142A to be effective 12/8/2020.

Filed Date: 1/7/21.

Accession Number: 20210107-5049.

Comments Due: 5 p.m. ET 1/28/21.

Docket Numbers: ER21-832-000.

Applicants: Tri-State Generation and Transmission Association, Inc.

Description: § 205(d) Rate Filing: Amendment to Service Agreement No. 864 to be effective 1/5/2021.

Filed Date: 1/7/21.

Accession Number: 20210107-5052.

Comments Due: 5 p.m. ET 1/28/21.

Docket Numbers: ER21-833-000.

Applicants: Midcontinent Independent System Operator, Inc.

Description: § 205(d) Rate Filing: 2021-01-08_Schedule 31 Annual Update Filing to be effective 4/1/2021.

Filed Date: 1/8/21.

Accession Number: 20210108-5020.

Comments Due: 5 p.m. ET 1/29/21.

Docket Numbers: ER21-834-000.

Applicants: Midcontinent Independent System Operator, Inc.

Description: § 205(d) Rate Filing: 2021-01-08_SA 3599 MidAmerican-Heartland Divide FSA (J583 Interconnection Sub) to be effective 1/1/2021.

Filed Date: 1/8/21.

Accession Number: 20210108-5026.

Comments Due: 5 p.m. ET 1/29/21.

Docket Numbers: ER21-835-000.

Applicants: Midcontinent Independent System Operator, Inc.

Description: § 205(d) Rate Filing: 2021-01-08_SA 3600 MidAmerican-Heartland Divide FSA (J583 Hills-J530 POI) to be effective 1/1/2021.

Filed Date: 1/8/21.

Accession Number: 20210108-5031.

Comments Due: 5 p.m. ET 1/29/21.

Docket Numbers: ER21-836-000.

Applicants: Midcontinent Independent System Operator, Inc.

Description: § 205(d) Rate Filing: 2021-01-08_SA 3601 MidAmerican-Heartland Divide FSA (J583 Bondurant Montezuma) to be effective 1/1/2021.

Filed Date: 1/8/21.

Accession Number: 20210108-5033.

Comments Due: 5 p.m. ET 1/29/21.

Docket Numbers: ER21-837-000.

Applicants: Midcontinent Independent System Operator, Inc.

Description: § 205(d) Rate Filing: 2021-01-08_SA 3602 MidAmerican-Heartland Divide FSA (J583 Grimes) to be effective 1/1/2021.

Filed Date: 1/8/21.

Accession Number: 20210108-5034.

Comments Due: 5 p.m. ET 1/29/21.

Docket Numbers: ER21-838-000.

Applicants: Alabama Power Company.

Description: Tariff Cancellation: Bull Branch Solar LGIA Termination Filing to be effective 1/8/2021.

Filed Date: 1/8/21.

Accession Number: 20210108-5079.

Comments Due: 5 p.m. ET 1/29/21.

Docket Numbers: ER21-839-000.

Applicants: Alabama Power Company.

Description: Tariff Cancellation: Russell County Solar LGIA Termination Filing to be effective 1/8/2021.

Filed Date: 1/8/21.

Accession Number: 20210108-5080.

Comments Due: 5 p.m. ET 1/29/21.

Docket Numbers: ER21-840-000.

Applicants: Midcontinent Independent System Operator, Inc.

Description: § 205(d) Rate Filing: 2021-01-08_SA 3176 NSP-NSP 2nd Rev GIA (J460) to be effective 12/18/2020.

Filed Date: 1/8/21.

Accession Number: 20210108-5089.

Comments Due: 5 p.m. ET 1/29/21.

Docket Numbers: ER21-841-000.

Applicants: PJM Interconnection, L.L.C.

Description: § 205(d) Rate Filing: Revisions to Sch. 12-Appx A: Dec 2020 RTEP, 30-Day Comment Period Requested to be effective 4/8/2021.

Filed Date: 1/8/21.

Accession Number: 20210108-5101.

Comments Due: 5 p.m. ET 1/29/21.

Docket Numbers: ER21-842-000.

Applicants: Midcontinent Independent System Operator, Inc.

Description: § 205(d) Rate Filing: 2021-01-08_SA 3234 Termination of Otter Tail Power-Dakota Range III FCA (J488) to be effective 1/9/2021.

Filed Date: 1/8/21.

Accession Number: 20210108-5117.

Comments Due: 5 p.m. ET 1/29/21.

Docket Numbers: ER21-843-000.

Applicants: California Independent System Operator Corporation.

Description: § 205(d) Rate Filing: 2021-01-08 Hybrid Resources Phase 2 to be effective 3/12/2021.

Filed Date: 1/8/21.

Accession Number: 20210108-5118.

Comments Due: 5 p.m. ET 1/29/21.

Docket Numbers: ER21-844-000.

Applicants: PacifiCorp.

Description: § 205(d) Rate Filing: Exelon NITSA (OR DA) SA 943 Rev 2 to be effective 1/1/2021.

Filed Date: 1/8/21.

Accession Number: 20210108-5119.

Comments Due: 5 p.m. ET 1/29/21.

Docket Numbers: ER21-845-000.

Applicants: ISO New England Inc., Eversource Energy Service Company.

Description: Notice of Termination of the Standard Large Generator Interconnection Agreement of ISO New England Inc.

Filed Date: 1/7/21.

Accession Number: 20210107-5189.

Comments Due: 5 p.m. ET 1/28/21.

Docket Numbers: ER21-846-000.

Applicants: Duke Energy Carolinas, LLC.

Description: § 205(d) Rate Filing: Revisions to Rate Schedule No. 332 to be effective 1/1/2021.

Filed Date: 1/8/21.

Accession Number: 20210108-5123.

Comments Due: 5 p.m. ET 1/29/21.

Docket Numbers: ER21-847-000.

Applicants: PacifiCorp.

Description: § 205(d) Rate Filing: Calpine NITSA Rev 14 to be effective 1/1/2021.

Filed Date: 1/8/21.

Accession Number: 20210108-5126.

Comments Due: 5 p.m. ET 1/29/21.

Docket Numbers: ER21-848-000.

Applicants: Battle Mountain SP, LLC.

Description: Baseline eTariff Filing: FERC Electric MBR Tariff to be effective 3/9/2021.

Filed Date: 1/8/21.

Accession Number: 20210108-5127.

Comments Due: 5 p.m. ET 1/29/21.

Docket Numbers: ER21-849-000.

Applicants: FPL Energy Oliver Wind I, LLC.

Description: Tariff Cancellation: FPL Energy Oliver Wind I, LLC to be effective 1/9/2021.

Filed Date: 1/8/21.

Accession Number: 20210108-5144.

Comments Due: 5 p.m. ET 1/29/21.

Docket Numbers: ER21-850-000.

Applicants: FPL Energy Oliver Wind II, LLC.

Description: Tariff Cancellation: FPL Energy Oliver Wind II, LLC Cancellation of MBR Tariff to be effective 1/9/2021.

Filed Date: 1/8/21.

Accession Number: 20210108-5145.

Comments Due: 5 p.m. ET 1/29/21.

Docket Numbers: ER21-851-000.

Applicants: Hawkeye Power Partners, LLC.

Description: Tariff Cancellation: Hawkeye Power Partners, LLC Cancellation of MBR Tariff to be effective 1/9/2021.

Filed Date: 1/8/21.

Accession Number: 20210108-5149.

Comments Due: 5 p.m. ET 1/29/21.

Docket Numbers: ER21-852-000.

Applicants: Duke Energy Florida, LLC.

Description: Tariff Cancellation: Notice of Termination of E&P Agreement RS No. 297 (Archer) to be effective 3/10/2021.

Filed Date: 1/8/21.

Accession Number: 20210108-5172.

Comments Due: 5 p.m. ET 1/29/21.

Take notice that the Commission received the following electric reliability filings:

Docket Numbers: RD21-3-000.

Applicants: North American Electric Reliability Corporation.

Description: Petition of the North American Electric Reliability Corporation for approval of errata to Reliability Standard FAC-001-3.

Filed Date: 1/7/21.

Accession Number: 20210107-5185.

Comments Due: 5 p.m. ET 2/8/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 8, 2021.
Nathaniel J. Davis, Sr.,
Deputy Secretary.

[FR Doc. 2021-00684 Filed 1-13-21; 8:45 am]

BILLING CODE 6717-01-P